DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, D.C.

Docket Number: 05-041. Applicant: Georgia Institute of Technology, 711 Marietta St., Atlanta, GA 30332. Instrument: Dual Beam SEM/FIB Electron Microscope System, Model Quanta 200 3D Nanolab. Manufacturer: FEI Company, Czech Republic. Intended Use: The instrument is intended to be used to improve understanding of molecular mechanisms and functional assemblies, initiate development of new materials, and facilitate advances in environmental analysis and detection. New research and creative concepts will include: (1) multifunctional scanning nanoprobes and quantum cascade laser-based sensing systems,(2) stimulated surface chemistry using metal-insulator-metal (MIM) devices containing nano-scale field emission arrays,(3) optically gated single molecule transistors,(4) shape-preserving chemical conversion of 3-D bioclastic structures,(5) impedance mapping AFM cantilever arrays and (6) nanobelts as nanobiosensors and nanocantilevers. Application accepted by Commissioner of Customs: September 15, 2005.

Docket Number: 05-042. Applicant: Georgia Institute of Technology, 711 Marietta St., Atlanta, GA 30332. Instrument: Dual Beam SEM/FIB Electron Microscope System, Model Nova 200 Nanolab. Manufacturer: FEI Company, The Netherlands. Intended Use: The instrument is intended to be used to improve understanding of molecular mechanisms and functional assemblies, initiate development of new materials, and facilitate advances in environmental analysis and detection. New research and creative concepts will include: (1) multifunctional scanning nanoprobes and quantum cascade laser-based sensing systems,(2) stimulated surface chemistry using metal-insulator-metal (MIM) devices containing nano-scale field emission arrays,(3) optically gated single molecule transistors,(4) shape-preserving chemical conversion of 3-D bioclastic structures,(5) impedance mapping AFM cantilever arrays and (6) nanobelts as nanobiosensors, and nanocantilevers. Application accepted by Commissioner of Customs: September 15, 2005.

Docket Number: 05-043. Applicant: Massachusetts General Hospital, 55 Fruit Street, Boston, MA 02114. Instrument: Electron Microscope, Model JEM-1011. Manufacturer: JEOL Ltd., Japan. Intended Use: The instrument is intended to be used by the professional laboratory staff at Massachusetts General Hospital for the advancement of scientific knowledge relating to U.S. government funded medical research projects using electron microscopy, electron microtomy and ultracryomicrotomy techniques. Application accepted by Commissioner of Customs: September 12, 2005.

Gerald A. Zerdy,
Program Manager, Statutory Import Programs Staff.

[FR Doc. 05-22151 Filed 11-4-05; 8:45 am]

Billing Code: 3510-DS-S